DEPARTMENT OF HEALTH AND HUMAN SERVICES

Administration for Children and Families

Proposed Information Collection Activity; Comment Request

Proposed Projects

Title: Prenatal Alcohol and Other Drug Exposures in Child Welfare (PAODE-CW) Study.

OMB No.: New Collection.

Description: The Administration for Children and Families (ACF), U.S. Department of Health and Human Services (HHS) is proposing a data collection activity as part of the Prenatal Alcohol and Other Drug Exposures in Child Welfare (PAODE-CW) Study. The study examines the current state of child welfare practice regarding the identification and provision of services for children with prenatal substance exposures, including alcohol and other drugs.

The descriptive study will document the policies and practices of child welfare agencies and related organizations to identify, assess, and refer to services children who may have been exposed to prenatal substances and/or diagnosed with a resulting condition such as fetal alcohol spectrum disorders (FASD). The study will document procedures as well as challenges faced and lessons learned to inform the field of practice as well as policy makers, program administrators, and funders at various levels.

The proposed information collection activities consist of semi-structured interviews and surveys conducted at 28 child welfare agency sites. Focus groups conducted at 8 of the 28 sites will gather information on needs, challenges, and strategies to support children with prenatal substance exposures and their families within the child welfare system.

Respondents: State and child welfare agency directors, child welfare staff and supervisors; agency partners and service providers; and family members and caregivers of children who have been prenatally exposed to substances.

Annual Burden Estimates
Instrument | Number of respondents | Number of responses per respondent | Average burden hours per response | Total burden hours
Local Agency Staff Interview Protocol—Frontline Only | 27.5 | 1 | 1 | 27.5
Local Agency Staff Interview Protocol—Ongoing Only | 27.5 | 1 | 1 | 27.5
Local Agency Staff Interview Protocol—Frontline and Ongoing | 15 | 1 | 1.25 | 18.75
Local Agency Medical Staff Interview Protocol | 14 | 1 | 1 | 14
Local Agency Director Interview Protocol | 14 | 1 | 1 | 14
Focus Group of Caregivers | 32 | 1 | 1.5 | 48
Local Agency Staff Survey | 280 | 1 | .33 | 92.4
Service Provider Survey | 12 | 1 | .33 | 3.96
Local Agency Data Staff Interview Protocol | 6 | 1 | 1.5 | 9

Estimated Total Annual Burden Hours: 255.11.

In compliance with the requirements of the Paperwork Reduction Act of 1995 (Pub. L. 104-13, 44 U.S.C. Chap 35) Paperwork Reduction Act of 1995, the Administration for Children and Families is soliciting public comment on the specific aspects of the information collection described above. Copies of the proposed collection of information can be obtained and comments may be forwarded by writing to the Administration for Children and Families, Office of Planning, Research and Evaluation, 330 C Street SW., Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2017-24420 Filed 11-8-17; 8:45 am]

BILLING CODE 4184-01-P